DEPARTMENT OF TRANSPORTATION

National Highway Traffic Safety Administration

[Docket No. NHTSA-01-8978; Notice 1]

United Nations Economic Commission for Europe; World Forum for the Harmonization of Vehicle Regulations: Meetings for Calendar Year 2001

AGENCY: National Highway Traffic Safety Administration (NHTSA), DOT.

ACTION: Notice of schedule of meetings.

SUMMARY: NHTSA is publishing this notice to inform the public of the schedule of meetings of the World Forum for the Harmonization of Vehicle Regulations (WP.29) and its working parties of experts for the current calendar year. Publication of this information is consistent with NHTSA's Statement of Policy regarding Agency Policy Goals and Public Participation in the Implementation of the 1998 Agreement on Global Technical Regulations.

FOR FURTHER INFORMATION CONTACT: Mr. Martin Koubek, International Policy Advisor, Office of International Policy and Harmonization (NPP-01), National Highway Traffic Safety Administration, 400 Seventh Street, SW., Washington, DC 20590; phone number (202) 366-2114, fax number (202) 366-2559.

SUPPLEMENTARY INFORMATION: On August 23, 2000, NHTSA published (65 FR 51236) a policy statement that it will publish each year a calendar of scheduled meetings of WP.29 participants and working parties of experts, as well as meetings of the Executive Committee of the 1998 Global Agreement. This document announces the meeting dates and places for 2001. They were approved by the Inland Transport Committee at its meeting February 13-15, 2001.

List of Meetings of the World Forum for the Harmonization of Vehicle Regulations and Its Working Parties of Experts in 2001

January

8-13 Working Party on Lighting (GRE) Informal Working Group on Lighting Installation

16-19 Working Party on Pollution and Energy (GRPE) (forty-first session)

29-2 Feb. Working Party on Brakes and Running Gear (GRRF) (forty-ninth session)

February

20-23 Working Party on Noise (GRB) (thirty-fourth session)

March

6 Administrative Committee for the Coordination of Work (WP.29/AC.2) (seventy-fifth session)

6-9 World Forum for Harmonization of Vehicle Regulations (WP.29) (one-hundred-and-twenty-third session), Executive Committee to the 1998 Global Agreement (first session), and Administrative Committee to the 1958 Agreement (AC.1) (seventeenth session)

27-30 Working Party on Lighting and Light-Signalling (GRE) (forty-sixth session)

April

2-6 Working Party on General Safety Provisions (GRSG) (eightieth session), including Informal Meeting on Vehicle Classification

May

7-11 Working Party on Passive Safety (GRSP) (twenty-ninth session)

29-1 June Working Party on Pollution and Energy (GRPE) (forty second session)

June

25-27 Working Party on Brakes and Running Gear (GRRF) Informal Meeting on Tires

25 Administrative Committee for the Coordination of Work (WP.29/AC.2) (seventy-sixth session)

26-29 World Forum for Harmonization of Vehicle Regulations (WP.29) (one-hundred-and-twenty-fourth session), Executive Committee of the 1998 Global Agreement (second session), and Administrative Committee to the 1958 Agreement (AC.1) (eighteenth session)

September

10-12 Working Party on Brakes and Running Gear (GRRF) (fiftieth session)

13-14 Working Party on Noise (GRB) (thirty-fifth session)

October

1-5 Working Party on Lighting and Light-Signalling (GRE) (forty-seventh session)

6-13 Working Party on General Safety Provisions (GRSG) (eighty-first session), including Informal Meeting on Vehicle Classification

November

5 Administrative Committee for the Coordination of Work (WP.29/AC.2) (seventy-seventh session)

6-9 World Forum for Harmonization of Vehicle Regulations (WP.29) (one-hundred-and-twenty-fifth session), Executive Committee of the 1998 Global Agreement (third session) and Administrative Committee to the 1958 Agreement (AC.1) (nineteenth session)

December

3-6 Working Party on Passive Safety (GRSP) (thirtieth session)

Issued on February 26, 2001.
Julie Abraham,
Director, Office of International Policy and Harmonization.

[FR Doc. 01-6102 Filed 3-9-01; 8:45 am]

BILLING CODE 4910-59-P